DEPARTMENT OF TRANSPORTATION

Federal Highway Administration

Agency Information Collection Activities: Submission for OMB Review

AGENCY: Federal Highway Administration (FHWA), DOT.

ACTION: Notice.

SUMMARY: The FHWA has forwarded the information collection request described in this notice to the Office of Management and Budget (OMB) for review and comment. We published a Federal Register Notice with a 60-day public comment period on this information collection on May 5, 2000 (65 FR 26269). We are required to publish this notice in the Federal Register by the Paperwork Reduction Act of 1995.

DATES: Please submit comments by November 20, 2000.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information.

FOR FURTHER INFORMATION CONTACT: Carmen Sevier, (202) 366-1595, Civil Rights Service Business Unit, Federal Highway Administration, 400 7th Street, SW., Washington, DC 20590-0001. Office hours are from 7:45 a.m. to 4:15 p.m., Monday through Friday, except Federal holidays.

SUPPLEMENTARY INFORMATION: OMB Control Number: 2125-0019 (Expiration Date: December 31, 2000).

Title: Federal-Aid Highway Construction Equal Employment Opportunity.

Abstract: Under the provisions of Title 23 U.S.C. Part 140(a), the Federal Highway Administration (FHWA) is required to ensure equal opportunity in contractors' employment practices on federal-aid highway projects. In order to implement this provision of the law, FHWA regulation, 23 CFR 230, Subpart A, requires that contractors submit to State Departments of Transportation (State DOTs) an annual report providing employment workforce data, which includes the number of minorities, women, and non-minority group employees in each construction craft. The information is reported on Form PR-1391, Federal-Aid Highway Construction Contractors Annual EEO Report. The regulation also requires State DOTs to submit an annual report to FHWA summarizing PR-1391 data. This summary is provided on Form PR-1392, Federal-aid Highway Construction, Summary of Employment Data.

Affected Public: Approximately 4,500 Federal-aid contractors and 52 State Departments of Transportation.

Estimated Total Annual Burden Hours: 3,916. FHWA estimates that approximately 4,500 federal-aid contractors are required to complete and submit Form PR-1391 for approximately 7,000 projects and that each report takes approximately 30 minutes. In addition, FHWA estimates that it takes each State DOT approximately 8 hours to complete and submit Form PR-1392.

Authority: The Paperwork Reduction Act of 1995; 44 U.S.C. Chapter 35, as amended; and 49 CFR 1.48.

Issued on: October 16, 2000.
James R. Kabel,
Chief, Management Programs and Analysis Division.

[FR Doc. 00-26996 Filed 10-19-00; 8:45 am]

BILLING CODE 4910-22-P